DEPARTMENT OF LABOR

Employment and Training Administration

[TA-W-54,860]

American Express, Field Accounting; Phoenix, AZ; Notice of Termination of Investigation

Pursuant to section 221 of the Trade Act of 1974, as amended, an investigation was initiated on May 6, 2004 in response to a petition filed on behalf of workers at American Express, Field Accounting, Phoenix, Arizona.

The petitioners have requested that the petition be withdrawn. Consequently, further investigation would serve no purpose, and the investigation has been terminated.

Signed at Washington, DC this 21st day of May 2004.
Linda G. Poole,
Certifying Officer, Division of Trade Adjustment Assistance.

[FR Doc. 04-12880 Filed 6-7-04; 8:45 am]

BILLING CODE 4510-30-P